DEPARTMENT OF TRANSPORTATION

Connected Vehicle Reference Implementation Architecture Workshop; Notice of Public Meeting

AGENCY: ITS Joint Program Office, Research and Innovative Technology Administration, U.S. Department of Transportation.

ACTION: Notice.

The U.S. Department of Transportation (USDOT) Intelligent Transportation System Joint Program Office (ITS JPO) will host a free Connected Vehicle Reference Implementation Architecture (CVRIA) public workshop meeting to discuss and solicit feedback on preliminary architecture viewpoint drafts and to gain important feedback from the stakeholders who will be involved in manufacturing, developing, deploying, operating, or maintaining the connected vehicle technologies and applications. The public meeting will take place April 30, 2013, 8:30 a.m.-5:00 p.m. PDT and May 1, 2013, 8:30 a.m.-4:00 p.m. PDT at the Hyatt Place, 282 Almaden Boulevard, San Jose, California 95113. To register for the CVRIA Workshop, please visit www.itsa.org/cvriaregistration.

About the Connected Vehicle Research Program at USDOT

Connected Vehicle research at USDOT is a multimodal program that involves using wireless communication between vehicles, infrastructure, and personal communications devices to improve safety, mobility, and environmental sustainability. The CVRIA project is sponsored and led by the ITS JPO, under the management of the ITS Architecture and Standards Programs and in cooperation with the Systems Engineering and Test Bed Programs. To learn more about the Connected Vehicle program please visit www.its.dot.gov.

If you have any questions or you need any special accommodations, please contact Adam Hopps, Transportation Program Specialist, Intelligent Transportation Society of America, 1100 17th Street NW., Suite 1200, Washington, DC 20036, 202-680-0091.

Issued in Washington, DC, on the 20th day of March 2013.
Brian Cronin,
Acting Managing Director, ITS Joint Program Office.

[FR Doc. 2013-06893 Filed 3-25-13; 8:45 am]

BILLING CODE 4910-HY-P